ENVIRONMENTAL PROTECTION AGENCY

40 CFR Part 62

[SC-038-200102(c); FRL-7008-8]

Withdrawal of Direct Final Rule for Approval and Promulgation of State Plans for Designated Facilities and Pollutants: South Carolina

AGENCY: Environmental Protection Agency.

ACTION: Withdrawal of direct final rule.

SUMMARY: The United States Environmental Protection Agency (EPA) is withdrawing the direct final rule approving the section 111(d)/129 Plan submitted by the South Carolina Department of Health and Environmental Control (DHEC). The direct final rule was published in the Federal Register on May 7, 2001 (66 FR 22927).

DATES: The direct final rule published at 66 FR 22927, May 7, 2001, is withdrawn as of July 6, 2001.

FOR FURTHER INFORMATION CONTACT: Gregory Crawford at EPA Region 4, Air Planning Branch, 61 Forsyth Street, SW, Atlanta, Georgia 30303-3104, (404) 562-9046.

SUPPLEMENTARY INFORMATION: On May 7, 2001 (66 FR 22970), EPA proposed to approve the section 111(d)/129 Plan for the State of South Carolina submitted on September 19, 2000, for implementing and enforcing the Emission Guidelines applicable to existing Hospital /Medical/ Infectious Waste Incinerators. On the same day (66 FR 22927), EPA also published a direct final rule approving the State Plan. The action provided a 30-day public comment period and explained that if we received adverse comments, we would withdraw the relevant direct final action.

We received comments and are therefore withdrawing the direct final rule approving the State Plan. We are not opening an additional comment period. We intend to finalize action on these rules based on the May 7, 2001 proposed action.

List of Subjects in 40 CFR Part 62

Environmental protection, Administrative practice and procedure, Air pollution control, Hospital/medical/infectious waste incineration, Intergovernmental relations, Reporting and recordkeeping requirements.

Dated: June 22, 2001.
A. Stanley Meiburg,
Acting Regional Administrator, Region 4.

[FR Doc. 01-16954 Filed 7-5-01; 8:45 am]

BILLING CODE 6560-50-P